DEPARTMENT OF COMMERCE

Economic Development Administration

Notice of Petitions by Firms for Determination of Eligibility to Apply for Trade Adjustment Assistance

AGENCY: Economic Development Administration, Department of Commerce.

ACTION: Notice and Opportunity for Public Comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility To Apply for Trade Adjustment Assistance 9/8/2010 Through 9/16/2010
Firm name | Address | Date accepted for investigation | Products
Amron Enterprises, LLC | 1205 N. Frankoma Rd., Sapulpa, OK 74066 | 09/13/10 | The firm manufactures heat exchanger component parts and full assemblies.
Autotrol Corporation | 365 East Prairie Street, Crystal Lake, IL 60014-4414 | 09/13/10 | The firm manufactures gear motors.
Baker Manufacturing, Inc | 11121 Valley Ave E., Puyallup, WA 98372 | 09/10/10 | The firm performs machining on aluminum, steel and exotic metals.
Circuit Check, Inc | 6550 Wedgwood Road, Maple Grove, MN 55311-3643 | 09/13/10 | The firm manufactures electronic integrated circuit and processor test fixtures for circuit cards, modules and fully assembled products.
Genplex, Inc | 7 Industrial Park Road, Skowhegan, ME 04976 | 09/14/10 | The firm manufactures extruded plastic products (tubing and profile extrusions).
M-C Industries, Inc. d/b/a Polo Custom Products | 3601 S.W. 29th St. Suite 250, Topeka, KS 66614-2074 | 09/09/10 | The firm manufactures pouches, bags, carrying cases and decorated apparel utilizing custom industrial sewing, RF welding, embroidery and silk screen.
Simpson Door Company | 400 Simpson Avenue, McCleary, WA 98557 | 09/14/10 | The firm manufactures exterior & interior wood doors.
Spinco Metal Products, Inc | 1 Country Club Drive, Newark, NY 14513-1250 | 09/13/10 | The firm manufactures copper and brass tubing and assemblies for refrigeration and HVAC.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: September 17, 2010.
Miriam J. Kearse,
Program Team Lead.

[FR Doc. 2010-23961 Filed 9-23-10; 8:45 am]

BILLING CODE 3510-24-P